DEPARTMENT OF THE INTERIOR

Bureau of Land Management

[UT-100-1430-04; UTU-79712]

Notice of Realty Action; Recreation and Public Purposes (R&PP) Act Classification; Utah

AGENCY: Bureau of Land Management (BLM), Interior.

ACTION: Notice of realty action.

SUMMARY: The following public land, located in Washington County, Utah, have been examined and found suitable for classification for lease or conveyance to the Town of New Harmony under the provision of the Recreation and Public Purposes Act, as amended (43 U.S.C. 869 et seq.).

Salt Lake Meridian, Utah

T. 38 S., R. 13 W.,

Sec. 21, SE¼NW¼.

Containing 40 acres, more or less.

FOR FURTHER INFORMATION CONTACT: Kathy Abbott, BLM Realty Specialist at (435) 688-3234.

SUPPLEMENTARY INFORMATION: The Town of New Harmony purposes to use land to construct, operate and maintain a nature park. The land is not needed for Federal purposes. Leasing or conveying title to the affected public land is consistent with current BLM land use planning and would be in the public's interest.

The lease or patent, when issued, would be subject to the following terms, conditions, and reservations:

1. Provisions of the Recreation and Public Purposes Act and all applicable regulations of the Secretary of the Interior.

2. A right-of-way for ditches and canals constructed by the authority of the United States.

3. All minerals shall be reserved to the United States, together with the right to prospect for, mine, and remove the minerals.

4. Those rights for a water facility granted to the town of New Harmony by right-of-way U-67507.

Detailed information concerning this action is available at the office of the Bureau of Land Management, St. George Field Office, 345 E. Riverside Drive, St. George, Utah 84790. On July 26, 2004, the land will be segregated from all other forms of appropriation under the public land laws, including the general mining laws, except for leasing or conveyance under the Recreation and Public Purposes Act and leasing under the mineral leasing laws. Interested persons may submit comments regarding the proposed classification, leasing or conveyance of the land to the Federal Office Manager, St. George Field Office until September 9, 2004.

Classification Comments: Interested parties may submit comments involving the suitability of the lands for a nature park. Comments on the classification are restricted to whether the land is physically suited for the proposal, whether the land will maximize the future use or uses of the land, whether the use is consistent with local planning and zoning, or if the use is consistent with State and Federal programs.

Application Comments: Interested parties may submit comments regarding the specific use proposed in the Town of New Harmony's application, whether the BLM followed proper administrative procedures in reaching the decision, or any other factor not directly related to the suitability of the land for nature park purposes.

Any adverse comments will be reviewed by the State Director. In the absence of any adverse comments, the classification will become effective on September 24, 2004.

Dated: June 16, 2004.
James D. Crisp,
Field Office Manager.

[FR Doc. 04-16878 Filed 7-23-04; 8:45 am]

BILLING CODE 4310-DQ-P